DEPARTMENT OF LABOR

Employment and Training Administration

[TA-W-62,184, TA-W-62,184A]

Mark Eyelet, Inc. Including On-Site Leased Workers of Jaci Carroll Staffing, Watertown, CT; Ozzi II, Inc. (DBA OC Eyelet) Including On-Site Leased Workers of Watertown, CT; Notice of Affirmative Determination Regarding Application for Reconsideration

By application dated December 7, 2007, a company official requested administrative reconsideration of the Department of Labor's Notice of Negative Determination Regarding Eligibility to Apply for Worker Adjustment Assistance, applicable to workers and former workers of the subject firm. The denial notice was signed on October 31, 2007 and published in the Federal Register on November 15, 2007 (72 FR 64247).

The initial investigation resulted in a negative determination based on the finding that imports of eyelet parts and miniature stamping did not contribute importantly to worker separations at the subject firms and no shift of production to a foreign source occurred.

In the request for reconsideration, the petitioner provided additional information concerning subject firm's customers.

The Department has carefully reviewed the request for reconsideration and the existing record and therefore the Department will conduct further investigation to determine if the workers meet the eligibility requirements of the Trade Act of 1974.

Conclusion

After careful review of the application, I conclude that the claim is of sufficient weight to justify reconsideration of the Department of Labor's prior decision. The application is, therefore, granted.

Signed in Washington, DC, this 7th day of January, 2008.
Elliott S. Kushner,
Certifying Officer, Division of Trade Adjustment Assistance.

[FR Doc. E8-589 Filed 1-15-08; 8:45 am]

BILLING CODE 4510-FN-P